DEPARTMENT OF DEFENSE

Office of the Secretary

Privacy Act of 1974; System of Records

AGENCY: Office of the Secretary, DoD.

ACTION: Notice to add a system of records.

SUMMARY: The Office of the Secretary proposes to add a system of records notice to its existing inventory of record systems subject to the Privacy Act of 1974, (5 U.S.C. 552a), as amended.

DATES: This proposed action will be effective without further notice on January 2, 2001 unless comments are received which result in a contrary determination.

ADDRESSES: Send comments to OSD Privacy Act Coordinator, Records Section, Directives and Records Division, Washington Headquarter Services, Correspondence and Directives, 1155 Defense Pentagon, Washington, DC 20301-1155.

FOR FURTHER INFORMATION CONTACT: Mr. David Bosworth at (703) 601-4725.

SUPPLEMENTARY INFORMATION: The Office of the Secretary systems of records notices subject to the Privacy Act of 1974, (5 U.S.C. 552a), as amended, have been published in the Federal Register and are available from the address above.

The proposed system report, as required by 5 U.S.C. 552a(r) of the Privacy Act of 1974, as amended, was submitted on November 13, 2000, to the House Committee on Government Reform and Oversight, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 22, 2000.
L.M. Bynum,
Alternate OSD Federal Register Liaison Officer, Department of Defense.

DGC 20

System name:

DoD Presidential Appointee Vetting File.

System location:

Department of Defense, Office of the General Counsel, Standards of Conduct Office, 1600 Defense Pentagon, Washington, DC 20301-1600.

Categories of individuals covered by the system:

Individuals who are prospective nominees to positions within DoD which require Senate confirmation.

Categories of records in the system:

Files consist of White House Personal Data Statement Questionnaire, Senate Armed Services Committee Questionnaire, Questionnaire for National Security Positions (Standard Form 86), Supplement to Standard Form 86, Senior Appointee Pledge, internal memoranda concerning the potential nominee, published works including books, newspaper, magazine articles, speeches and treatises by the potential nominee, newspaper and magazine articles written about the potential nominee, financial information to include that contained on Financial Disclosure Reports (Standard Form 278), various consent and release forms which include but is not limited to Acknowledgment and Consent Regarding Intent to Nominate or Appoint, Disclosure and Authorization Pertaining to Consumer Reports Pursuant to the Fair Credit Reporting Act, FBI consent forms for a name check and full field investigation, and tax check waiver, and other correspondence or documents relating to the selection of political appointees.

Authority for maintenance of the system:

10 U.S.C. 140, General Counsel and E.O. 9397 (SSN).

Purpose(s):

Files are used to facilitate the White House Presidential Appointee vetting process by assisting potential nominees as they complete the vetting documents.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In the event that this system of records maintained by this component to carry out its functions indicates a violation or potential violation of law, whether civil, criminal or regulatory in nature, and whether arising by general statute or by regulation, rule or order issued pursuant thereto, the relevant records in the system of records may be referred, as a routine use, to the appropriate agency, whether Federal, state, local, or foreign, charged with the responsibility of investigating or prosecuting such violation or charged with enforcing or implementing the statute, rule, regulation or order issued pursuant thereto.

A record from this system of records maintained by this component may be disclosed as a routine use to any component of the Department of Justice for the purpose of representing the Department of Defense, or any officer, employee or member of the Department in pending or potential litigation to which the record is pertinent.

A record from this system of records maintained by this component may be disclosed as a routine use to the General Services Administration for the purpose of records management inspections conducted under authority of 44 U.S.C. 2904 and 2906.

A record from this system of records maintained by this component may be disclosed as a routine use to the National Archives and Records Administration for the purpose of records management inspections conducted under authority of 44 U.S.C. 2904 and 2906.

A record from this system of records maintained by this component may be disclosed as a routine use outside the DoD or the U.S. Government for the purpose of counterintelligence activities authorized by U.S. Law or Executive Order or for the purpose of enforcing laws which protect the national security of the United States.

To the White House and Committees on Armed Services for vetting purposes.

The DoD ‘Blanket Routine Uses’ do not apply to this system.

Policies and practices for storing, retrieving, accessing, retaining, and disposing of records in the system:

Storage:

Correspondence and forms in file folders.

Retrievability:

Information is retrieved by individual's last name and Social Security Number.

Safeguards:

Building employs security guards. Data is kept in locked cabinet and is accessible to authorized personnel only.

Retention and disposal:

Destroy at the end of the Presidential Administration during which the individual is employed. For individuals who are not appointed to a DoD position, destroy one year after the file is closed, but not later than the end of the Presidential administration during which the individual is considered.

System manager(s) and address:

Director, Standards of Conduct Office, Department of Defense, Office of the General Counsel, 1600 Defense Pentagon, Washington, DC 20301-1600.

Notification procedure:

Individual seeking to determine whether information about themselves is contained in this system should address written inquiries to Department of Defense, Office of the General Counsel, Standards of Conduct Office, 1600 Defense Pentagon, Washington, DC 20301-1600.

Requests for information should contain individual's full name, any former names used, and Social Security Number.

Record access procedures:

Individuals seeking access to information about themselves contained in this system should address written inquiries to Directorate for Freedom of Information and Security Review, Washington Headquarters Services, 1400 Defense Pentagon, Room 2C757, Washington, DC 20301-1400.

Requests for information should contain individual's full name, any former names used, and Social Security Number.

Contesting record procedures:

The OSD rules for accessing records, for contesting contents and appealing initial agency determinations are published in OSD Administrative Instruction 81); 32 CFR part 311; or may be obtained from the system manager.

Record source categories:

Submitted by individuals themselves. Other sources may include the White House, Committee on Armed Services, and other correspondence and public record sources.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 311. For additional information contact the system manager.

[FR Doc. 00-30473 Filed 11-30-00; 8:45 am]

BILLING CODE 5001-10-U